DEPARTMENT OF JUSTICE

Drug Enforcement Administration

[Docket No. DEA-766]

Bulk Manufacturer of Controlled Substances Application: IsoSciences, LLC

AGENCY: Drug Enforcement Administration, Justice.

ACTION: Notice of application.

SUMMARY: IsoSciences, LLC has applied to be registered as a bulk manufacturer of basic class(es) of controlled substance(s). Refer to SUPPLEMENTAL INFORMATION listed below for further drug information.

DATES: Registered bulk manufacturers of the affected basic class(es), and applicants therefore, may file written comments on or objections to the issuance of the proposed registration on or before March 15, 2021. Such persons may also file a written request for a hearing on the application on or before March 15, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on November 11, 2020, IsoSciences, LLC, 340 Mathers Road, Ambler, Pennsylvania 19002-3420, applied to be registered as an bulk manufacturer of the following basic class(es) of controlled substance(s):

Controlled substance | Drug code | Schedule
Cathinone | 1235 | I
Methcathinone | 1237 | I
Lysergic acid diethylamide | 7315 | I
Marihuana | 7360 | I
Tetrahydrocannabinols | 7370 | I
3,4-Methylenedioxyamphetamine | 7400 | I
3,4-Methylenedioxy-N-ethylamphetamine | 7404 | I
3,4-Methylenedioxymethamphetamine | 7405 | I
5-Methoxy-N-N-dimethyltryptamine | 7431 | I
Alpha-methyltryptamine | 7432 | I
Bufotenine | 7433 | I
Diethyltryptamine | 7434 | I
Dimethyltryptamine | 7435 | I
Psilocybin | 7437 | I
Psilocyn | 7438 | I
5-Methoxy-N,N-diisopropyltryptamine | 7439 | I
Dihydromorphine | 9145 | I
Heroin | 9200 | I
Nicocodeine | 9309 | I
Nicomorphine | 9312 | I
Normorphine | 9313 | I
Thebacon | 9315 | I
Normethadone | 9635 | I
Acryl fentanyl (N-(1-phenethylpiperidin-4-yl)-N-phenylacrylamide) | 9811 | I
Para-Fluorofentanyl | 9812 | I
3-Methylfentanyl | 9813 | I
Alpha-methylfentanyl | 9814 | I
Acetyl-alpha-methylfentanyl | 9815 | I
N-(2-fluorophenyl)-N-(1-phenethylpiperidin-4-yl)propionamide | 9816 | I
Acetyl Fentanyl (N-(1-phenethylpiperidin-4-yl)-N-phenylacetamide) | 9821 | I
Butyryl Fentanyl | 9822 | I
4-Fluoroisobutyryl fentanyl (N-(4-fluorophenyl)-N-(1-phenethylpiperidin-4-yl)isobutyramide) | 9824 | I
2-methoxy-N-(1-phenethylpiperidin-4-yl)-N-phenylacetamide | 9825 | I
Beta-hydroxyfentanyl | 9830 | I
Beta-hydroxy-3-methylfentanyl | 9831 | I
Alpha-methylthiofentanyl | 9832 | I
3-Methylthiofentanyl | 9833 | I
Furanyl fentanyl (N-(1-phenethylpiperidin-4-yl)-N-phenylfuran-2-carboxamide) | 9834 | I
Thiofentanyl | 9835 | I
Beta-hydroxythiofentanyl | 9836 | I
N-(1-phenethylpiperidin-4-yl)-N-phenyltetrahydrofuran-2-carboxamide | 9843 | I
Amphetamine | 1100 | II
Methamphetamine | 1105 | II
Codeine | 9050 | II
Dihydrocodeine | 9120 | II
Oxycodone | 9143 | II
Hydromorphone | 9150 | II
Hydrocodone | 9193 | II
Isomethadone | 9226 | II
Methadone | 9250 | II
Methadone intermediate | 9254 | II
Morphine | 9300 | II
Thebaine | 9333 | II
Levo-alphacetylmethadol | 9648 | II
Oxymorphone | 9652 | II
Thiafentanil | 9729 | II
Alfentanil | 9737 | II
Sufentanil | 9740 | II
Carfentanil | 9743 | II
Fentanyl | 9801 | II

The company plans to manufacture bulk controlled substances for use in analytical testing. In reference to drug codes 7360 (Marihuana) and 7370 (Tetrahydrocannabinols), the company plans to bulk manufacture these drugs as synthetics. No other activities for these drug codes are authorized for this registration.

William T. McDermott,
Assistant Administrator.

[FR Doc. 2021-00647 Filed 1-13-21; 8:45 am]

BILLING CODE P